DEPARTMENT OF HOMELAND SECURITY

48 CFR Part 3052

[HSAR Case 2015-001; DHS Docket No. DHS-2017-0006]

RIN 1601-AA76

Homeland Security Acquisition Regulation; Safeguarding of Controlled Unclassified Information; Correction

AGENCY: Office of the Chief Procurement Officer, Department of Homeland Security (DHS).

ACTION: Final rule; correction.

SUMMARY: The Office of Chief Procurement is correcting a final rule published in the Federal Register on June 21, 2023, titled Safeguarding of Controlled Unclassified Information. The final rule amended the Homeland Security Acquisition Regulation (HSAR) to address requirements for the safeguarding of Controlled Unclassified Information (CUI).

DATES: Effective July 21, 2023.

FOR FURTHER INFORMATION CONTACT: Shaundra Ford, Procurement Analyst, DHS, Office of the Chief Procurement Officer, Acquisition Policy and Legislation, (202) 447-0056, or email HSAR@hq.dhs.gov. When using email, include HSAR Case 2015-001 in the subject line.

SUPPLEMENTARY INFORMATION: This correction fixes the amendatory instruction for 3052.204-71, Contractor employee access, to clarify that the text in Alternate II should not be removed, and adds in 3052.212-70, Contract terms and conditions applicable to DHS acquisition of commercial items, two alternative clauses that were inadvertently not included in the final rule.

Correction

In FR Doc. 2023-11270 appearing on page 40560 in the Federal Register of Wednesday, June 21, 2023, the following corrections are made:

3052.204-71 [Corrected]

1. On page 40598, in the second column, in part 3052, in amendment 6, the instruction “Revise clause 3052.204-71 to read as follows:” is corrected to read: “Revise section 3052.204-71 to read as follows:”.

2. On page 40599, in the third column, in section 3052.24-71, the regulatory text following Alternate I, starting with “Alternate II (June 2006)” to the end of the section, is corrected to read:

3052.24-71 [Corrected]

Alternate II (July 2023)

When the Department has determined contract employee access to controlled unclassified information or Government facilities must be limited to U.S. citizens and lawful permanent residents, but the contract will not require access to information resources, add the following paragraphs:

(g) Each individual employed under the contract shall be a citizen of the United States of America, or an alien who has been lawfully admitted for permanent residence as evidenced by a Permanent Resident Card (USCIS I-551). Any exceptions must be approved by the Department's Chief Security Officer or designee.

(h) Contractors shall identify in their proposals, the names and citizenship of all non-U.S. citizens proposed to work under the contract. Any additions or deletions of non-U.S. citizens after contract award shall also be reported to the Contracting Officer.

(End of clause)

3. On page 40603, in the third column, in part 3052, amendatory instruction 9 for section 3052.212-70 is corrected to read:

9. In section 3052.212-70:

a. Revise the date of the clause; and

b. Amend paragraph (b) of the clause by:

i. Removing the entry for “3052.204-70”;

ii. In the entry for “3052.204-71”, adding the entry “Alternate II” following the entry “Alternate I”; and

iii. Adding in numerical order the entry “3052.204-72” followed by the entries “Alternate I” and “3052.204-73”.

The revision and additions read as follows:

4. On page 40603, in the third column, in section 3052.212-70, the text of paragraph (b) is corrected to read:

3052.212-70 [Corrected]

(b) * * *

__3052.204-71 * * *

__Alternate II

__3052.204-72 Safeguarding of Controlled Unclassified Information.

__Alternate I

__3052.204-73 Notification and Credit Monitoring Requirements for Personally Identifiable Information Incidents.

Paul Courtney,
Chief Procurement Officer, Department of Homeland Security.

[FR Doc. 2023-15579 Filed 7-20-23; 8:45 am]

BILLING CODE 9110-9B-P